SMALL BUSINESS ADMINISTRATION

[Declaration of Disaster #3338]

State of Illinois

As a result of the President's major disaster declaration on May 9, 2001, I find that Carroll, Hancock, Henderson, Jo Daviess, Rock Island and Whiteside Counties in the State of Illinois constitute a disaster area due to damages caused by flooding occurring between April 18, 2001 and continuing. Applications for loans for physical damage as a result of this disaster may be filed until the close of business on July 9, 2001 and for economic injury until the close of business on February 11, 2002 at the address listed below or other locally announced locations: U.S. Small Business Administration, Disaster Area 2 Office, One Baltimore Place, Suite 300, Atlanta, GA 30308.

In addition, applications for economic injury loans from small businesses located in the following contiguous counties in Illinois may be filed until the specified date at the above location: Adams, Bureau, Henry, Lee, McDonough, Mercer, Ogle, Schuyler, Stephenson and Warren; Clark and Lewis Counties in the State of Missouri; and Grant and Lafayette Counties in the State of Wisconsin.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 333806. For economic injury the numbers assigned are 9L6600 for Illinois; 9L6700 for Missouri; 9L6800 for Wisconsin. Iowa counties contiguous to the above named primary counties are not listed here because they have been previously declared.

(Catalog of Federal Domestic Assistance Program Nos. 59002 and 59008)

Dated: May 11, 2001.
James E. Rivera,
Acting Associate Administrator For Disaster Assistance.

[FR Doc. 01-12502 Filed 5-17-01; 8:45 am]

BILLING CODE 8025-01-P